SOCIAL SECURITY ADMINISTRATION

[Docket No: SSA-2024-0057]

Agency Information Collection Activities: Proposed Request

The Social Security Administration (SSA) publishes a list of information collection packages requiring clearance by the Office of Management and Budget (OMB) in compliance with Public Law 104-13, the Paperwork Reduction Act of 1995, effective October 1, 1995. This notice includes a revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2024-0057] in your submitted response.

I. The information collection below is pending at SSA. SSA will submit it to OMB within 60 days from the date of this notice. To be sure we consider your comments, we must receive them no later than March 17, 2025. Individuals can obtain copies of the collection instrument by writing to the above email address.

Social Security Benefits Application—20 CFR 404.310-404.311, 404.315-404.322, 404.330-404.333, 404.601-404.603, and 404.1501-404.1512—0960-0618. Title II of the Social Security Act provides retirement, survivors, and disability benefits to individuals who meet the eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both title II, Social Security disability benefits, and title XVI, SSI payments. We refer to disability applications filed under both titles as “concurrent applications.” This collection comprises the various application methods for each type of benefits. These methods include the following modalities: Paper forms (Forms SSA-1, SSA-2, and SSA-16); Modernized Claims System (MCS) screens for in-person interview applications; and internet-based iClaim application. SSA uses the information we collect through these modalities to determine: (1) the applicants' eligibility for the above-mentioned Social Security benefits, and (2) the amount of the benefits. The respondents are applicants for retirement, survivors, and disability benefits under title II of the Social Security Act, or their representative payees.

Modality of completion | Number of respondents | Frequency of response | Average burden per response (minutes) | Estimated annual burden (hours) | Average theoretical cost amount dollars) * | Average wait time in field office (minutes) ** | Total annual opportunity cost (dollars) ***
SSA-1
Paper version/SSA-1 | 2,346 | 1 | 11 | 430 | * $31.48 | ** 24 | *** $43,065
Interview/MCS | 1,925,180 | 1 | 10 | 320,863 | * 31.48 | ** 24 | *** 34,342,634
Internet/iClaim—Domestic Residence:
First Party | 1,470,043 | 1 | 15 | 367,511 | * 31.48 |  | *** 11,569,247
Third party initiated (complete and submit) | 25,706 | 1 | 15 | 6,427 | * 31.48 |  | *** 202,322
Internet/iClaim—Foreign Residence:
First Party | 7,993 | 1 | 18 | 2,398 | * 31.48 |  | *** 75,489
Third party-initiated (complete and submit) | 645 | 1 | 18 | 194 | * 31.48 |  | *** 6,107
Totals | 3,431,913 |  |  | 697,823 |  |  | *** 46,238,864
SSA-2
Paper version/SSA-2 | 779 | 1 | 15 | 195 | * 31.48 | ** 24 | *** 15,960
Interview/MCS | 407,415 | 1 | 14 | 95,064 | * 31.48 | ** 24 | *** 8,122,784
iClaim | 124,499 | 1 | 15 | 31,125 | * 31.48 |  | *** 979,815
Totals | 532,693 |  |  | 126,384 |  |  | *** 9,118,559
SSA-16
Paper version/SSA-16 | 29,485 | 1 | 20 | 9,828 | * 31.48 | ** 24 | *** 680,661
Interview/MCS | 920,938 | 1 | 19 | 291,630 | * 31.48 | ** 24 | *** 20,776,957
Internet/iClaim—Domestic Residence:
First Party | 503,567 | 1 | 15 | 125,892 | * 31.48 |  | *** 3,963,080
Third party initiated (complete and submit) | 528,474 | 1 | 15 | 132,119 | * 31.48 |  | *** 4,159,106
Internet/iClaim—Foreign Residence:
First Party | 781 | 1 | 18 | 234 | * 31.48 |  | *** 7,366
Third party-initiated (complete and submit) | 123 | 1 | 18 | 37 | * 31.48 |  | *** 1,165
Totals | 1,983,368 |  |  | 559,740 |  |  | *** 29,588,335
Grand Total
Total | 5,947,974 |  |  | 1,383,947 |  |  | *** 84,945,758
* We based this figure on the average hourly wage for all occupations in May 2024 as reported by the U.S. Bureau of Labor Statistics (https://www.bls.gov/oes/current/oes_nat.htm#00-0000).
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

Dated: January 8, 2025.
Naomi Sipple,
Reports Clearance Officer, Social Security Administration.

[FR Doc. 2025-00668 Filed 1-14-25; 8:45 am]

BILLING CODE 4191-02-P